ENVIRONMENTAL PROTECTION AGENCY

40 CFR Part 52

[EPA-R9-OAR-2011-0130; FRL-9661-4]

State of Nevada; Regional Haze State and Federal Implementation Plans; BART Determination for Reid Gardner Generating Station

AGENCY: Environmental Protection Agency (EPA).

ACTION: Announcement of public hearing.

SUMMARY: EPA is holding a public hearing on May 3, 2012 for the proposed rule, “Approval and Promulgation of Air Quality Implementation Plans; State of Nevada; Regional Haze State and Federal Implementation Plans; BART Determination for Reid Gardner Generating Station.”

DATES: The public hearing will be held on May 3, 2012.

ADDRESSES: We will hold a public hearing at Moapa Valley Empowerment High School, 2400 St. Joseph Street, Overton, Nevada 89040. The hearing will begin at 6:30 p.m. and continue until 8:30 p.m., if necessary. An open house will precede the public hearing at the same location from 5 p.m.-6 p.m. The EPA Region 9 Web site for the rulemaking, which includes the proposal and information about the public hearing, is at http://www.epa.gov/region9/air/actions/nv.html#reid.

FOR FURTHER INFORMATION CONTACT: If you have questions about the public hearings, please contact Thomas Webb, EPA Region IX at 415-947-4139, or Webb.Thomas@epa.gov. If you require a reasonable accommodation, please contact Terisa Williams, EPA Region IX Reasonable Accommodations Coordinator at 415-972-3829, or Williams.Terisa@epa.gov.

SUPPLEMENTARY INFORMATION: The public hearing is to provide the public with an opportunity to present oral comments regarding a proposed Regional Haze State and Federal Implementation Plans for the BART Determination at the Reid Gardner Generating Station in the State of Nevada. The BART determinations require the Reid Gardner Generating Station to meet an emissions limit for oxides of nitrogen at Units 1, 2 and 3 of 0.20 lbs/MMBtu on a 30-day rolling average.

Public hearing: The proposed rule for which EPA will hold the public hearing is available at http://www.epa.gov/region9/air/actions/nv.html#reid and also in the docket identified below. The public hearing will provide interested parties the opportunity to present data, views, or arguments concerning the proposal. EPA may ask clarifying questions during the oral presentations, but will not respond to the presentations at that time. We will consider written statements and supporting information submitted during the comment period with the same weight as any oral comments and supporting information presented at the public hearing.

At the public hearing, the hearing officer may limit the time available for each commenter to address the proposal to five minutes or less if the hearing officer determines it is appropriate. We will not provide equipment for commenters to show overhead slides or make computerized slide presentations. Any person may provide written or oral comments and data pertaining to our proposal at the public hearing. We will include verbatim transcripts, in English, of the hearing and written statements in the rulemaking docket.

EPA has established a docket for the proposed rule under Docket ID No. EPA-R09-OAR-2011-0130 (available at http://www.regulations.gov).

Dated: April 11, 2012.
Deborah Jordan,
Air Division Director, Region IX.

[FR Doc. 2012-9438 Filed 4-17-12; 8:45 am]

BILLING CODE 6560-50-P